DEPARTMENT OF THE INTERIOR

National Park Service

National Register of Historic Places; Notification of Pending Nominations

Nominations for the following properties being considered for listing in the National Register were received by the National Park Service before May 12, 2001. Pursuant to section 60.13 of 36 CFR Part 60 written comments concerning the significance of these properties under the National Register criteria for evaluation may be forwarded to the National Register, National Park Service, 1849 C St., NW., NC400, Washington, DC 20240. Written comments should be submitted by June 7, 2001.

Carol D. Shull,
Keeper of the National Register of Historic Places.

GEORGIA

Burke County

McCanaan Missionary Baptist Church and Cemetery, McCanaan Church Rd., Sardis, 01000643

Clarke County

Brightwell Shotgun Row, 366-376 Barber St., Athens, 01000642

Crawford County

Williams—Moore— Hillsman House, West Hopewell Rd., at Colbert Rd., Roberta, 01000645

Fulton County

Building at 161 Spring St., 161 Spring St., NW., Atlanta, 01000644

Means Street Historic District, Bounded by Marietta St., Bankhead and Ponders Aves., and the Southern rail line, Atlanta, 01000648

Hancock County

Sparta Cemetery, N of jct. of Hamilton and Boland Sts., Sparta, 01000647

Troup County

Royal Theater, 301 E. Main St., Hogansville, 01000646

ILLINOIS

Cook County

Chicago Varnish Company Building, 33 W. Kinzie St., Chicago, 01000649

MASSACHUSETTS

Worcester County

Crocker Field Historic District, River St., Fitchburg, 01000651

Warren Town Hall, 1 Main St., Warren, 01000650

MICHIGAN

Calhoun County

Roosevelt Community House, 107 Evergreen Rd., Springfield, 01000653

MINNESOTA

Hennepin County

Christ Church Lutheran, 3244 34th Ave., S, Minneapolis, 01000654

MISSOURI

St. Louis Independent city Saint Louis Provident Association building, 2221 Locust St., St. Louis (Independent City), 01000652

OKLAHOMA

Cleveland County

Ledbetter, H.E., House, (Bruce Goff Designed Resources in Oklahoma MPS) 701 W. Brooks, Norman, 01000655

Garvin County

First National Bank Building, 100 West Main, Stratford, 01000659

Lincoln County

Rock Cafe, (Route 66 in Oklahoma MPS) 114 W. Main St., Stroud, 01000661

McIntosh County

Oklahoma Odd Fellows Home at Checotah, 211 West North St., Checotah, 01000660

Murray County

Historic Downtown Sulphur Commercial District, West Muskogee St., from W 1st St. to W 5th St., and W 5th., Sulphur, 01000662

Oklahoma County

Jones, Charles G., Farmstead, 12061 NE 108th St., Jones, 01000658

The “Y” Chapel of Song, 100 N. University; on the campus of the University of Central Oklahoma, Edmond, 01000657

Tulsa County

Riverside Studio, (Bruce Goff Designed Resources in Oklahoma MPS) 1381 Riverside Dr., Tulsa, 01000656

White City Historic District, Roughly bounded by E. 2nd St., S. Fulton Av./Frisco RR Tracks, E. 11th St., and S. Yale Ave., Tulsa, 01000663

SOUTH DAKOTA

Brule County

Dunlap Methodist Episcopal Church, Jct. of 369th Ave., and 264th St., Platte, 01000666

Minnehaha County

Brandon Village, 2.5 mi. SW of Brandon, Brandon, 01000664

TEXAS

Tom Green County

Harris Drug Store, (San Angelo MRA) 114 S. Chadbourne St., San Angelo, 01000665

A request for Removal has been made for the following resource:

OHIO

Erie County

Hotel Breakers, Cedar Point, Sandusky, 82003565

[FR Doc. 01-13066 Filed 5-22-01; 8:45 am]

BILLING CODE 4310-70-P